DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before February 17, 2026.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: (1) Motor vehicle, (2) Rail freight, (3) Cargo vessel, (4) Cargo aircraft only, (5) Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on January 9, 2026.
Donald P. Burger,
Chief, General Approvals and Permits Branch.

Special Permits Data
Application No. | Applicant | Regulation(s) affected | Nature of the Special Permits thereof
22148-N | Space Exploration Technologies Corp | 180.205(a), 180.209(a) | To authorize acoustic emission testing of DOT-specification pressure vessels every 10 years. (modes 1, 2, 3, 4, 5).
22149-N | Apex Technology, Inc | 173.185(a)(1), 173.301(f)(1) | To authorize the transportation in commerce of an untested prototype battery contained in equipment (spacecraft) by motor vehicle. (mode 1).
22151-N | Zhejiang Rein Hytec Co., Ltd | 173.302a(a)(1) | To authorize the manufacture, mark and sale of non-DOT specification cylinders. (modes 1, 2, 3).
22152-N | Greif Packaging LLC | 172.203(a), 172.301(c), 178.601(e) | To authorize an alternate production qualification protocol for manufacturing UN steel drums. (modes 1, 2, 3, 4, 5).
22153-N | Amazon.com, Inc | 173.185(c)(3), 173.185(c)(3)(i)(B) | To authorize the transportation in commerce of packages with a smaller lithium battery mark (25mm x 25mm) and hatching which is black in color (mode 1, 2, 4, 5).
22154-N | Hugen Brandbeveiliging & Adviesbureau B.V | 172.203(a), 172.301(c), 173.302a(b), 180.205(a) | To authorize the use of ultrasonic examination in lieu of the required internal visual inspections and hydrostatic requalification on DOT specification cylinders.
22155-N | Spire Missouri Inc | 172.102(c)(7), 172.107(c)(8), 173.202, 173.242(c), 177.834(h), 180.605(d), 180.605(e), 180.605(h)(1) | To authorize the transportation in commerce of a hazardous material within non-bulk and bulk packagings permanently attached to a transport vehicle. (mode 1).
22157-N | Syensqo USA LLC | 172.302(c), 173.32(a)(2), 177.801, 180.605(a) | To authorize the one-time transportation of portable tanks that were filled with hazardous materials after the expiration of the most recent periodic requalification. (mode 1).
22158-N | Walmart, Inc | 173.185(c)(3) | To authorize the transportation in commerce of a package with a reduced size lithium battery marking on a shipping label. (mode 1).
22159-N | Americase, LLC | 173.185(b)(1) | To authorize the manufacture, mark, sale and use of alternate packaging for the transportation of lithium ion batteries. (modes 1, 2, 3).
22161-N | North Coast Container, LLC | 172.203(a), 172.301(c), 178.601(e) | To authorize UN 1A1 and UN 1A2 steel drums that have had an alternative periodic retest performed to be used for the transportation in commerce of the hazardous materials stated in the special permit. (modes 1, 2, 3, 4, 5).
22163-N | Critical Mineral Recovery, Inc | 173.185(b)(1), 173.185(f) | To authorize the transportation in commerce of fully deactivated, damaged lithium ion cells without inner packaging. (modes 1, 2, 3).
22167-N | Insight NDT, Inc | 172.203(a), 172.301(c), 180.205(a) | To authorize Ultrasonic Examination (UE) Cylinder Inspection Machine(s) to be used in lieu of the specified internal visual examination and hydrostatic pressure test to recertify cylinders. (modes 1, 2, 3, 4, 5).
22168-N | KWIK CGE Solutions, LLC | 180.205(a), 180.209(a), 180.213(a) | To authorize the transportation in commerce of hazardous materials in Composite Overwrapped Pressure Vessels (COPV) that have been requalified through Modal Acoustic Emission (MAE) testing, in lieu of internal visual inspection and hydrostatic testing. (modes 1, 2, 3, 4, 5).
22170-N | Thales Alenia Space | 172.300(a), 172.400(a), 173.21. 173.185(a)(1), 173.301(f)(1), 173.302a(a)(1), 173.304a(a)(2) | To authorize the transportation in commerce of certain non-DOT specification containers containing specific Division 2.2 and 2.3 compressed gases and other hazardous materials identified in the special permit for use in specialty cooling and propulsion applications for a satellite. (modes 1, 3, 4).
22171-N | Pipistrel D.O.O | 173.185(b)(1) | To authorize the transportation in commerce of large-format lithium ion batteries over 35kg via cargo only aircraft. (mode 4).
22172-N | Chart Industries, Inc | 172.203(a), 173.314(c), 173.314(o), 173.319(d), 179.400-19(a), 179.400-19(b), 179.400-20, 179.102-1, 179.400-4, 179.400-5, 179.400-12, 179.400-17 | To authorize the transportation in commerce of carbon dioxide, refrigerated liquid in a double-wall tank car analogous to a DOT-113. (mode 2).

[FR Doc. 2026-00870 Filed 1-15-26; 8:45 am]

BILLING CODE P